DEPARTMENT OF TRANSPORTATION

Federal Aviation Administration

14 CFR Part 39

[Docket No. 2002-CE-30-AD; Amendment 39-12856; AD 2002-16-17]

RIN 2120-AA64

Airworthiness Directives; Barry Aviation, LLC Model PZL-Krosno KR-03A “Peregrine” (Puchatek) Sailplanes

AGENCY: Federal Aviation Administration, DOT.

ACTION: Final rule; request for comments.

SUMMARY: This amendment adopts a new airworthiness directive (AD) that applies to certain Barry Aviation, LLC Model PZL-Krosno KR-03A “Peregrine” (Puchatek) sailplanes. This AD requires you to inspect to ensure that the correct horizontal stabilizer attachment fittings are installed, install the correct fittings if necessary, and incorporate a “NO LIFT” placard to the vertical stabilizer. This AD is the result of reports of cracks in the horizontal stabilizer attachment fittings on the affected sailplanes. Analysis of these incidents reveals that incorrect fittings were installed. The actions specified by this AD are intended to prevent such cracks in the horizontal stabilizer attachment fittings, which could result in the horizontal stabilizer separating from the sailplane with consequent loss of control of the sailplane.

DATES: This AD becomes effective on August 30, 2002.

The Director of the Federal Register approved the incorporation by reference of certain publications listed in the regulation as of August 30, 2002.

The Federal Aviation Administration (FAA) must receive any comments on this rule on or before September 27, 2002.

ADDRESSES: Submit comments to FAA, Central Region, Office of the Regional Counsel, Attention: Rules Docket No. 2002-CE-30-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-30-AD” in the subject line. If you send comments electronically as attached electronic files, the files must be formatted in Microsoft Word 97 for Windows or ASCII text.

You may get the service information referenced in this AD from Barry Aviation, LLC, 11600 Aviation Boulevard, suite 16, West Palm Beach, Florida 33412. You may view this information at FAA, Central Region, Office of the Regional Counsel, Attention: Rules Docket No. 2002-CE-30-AD, 901 Locust, Room 506, Kansas City, Missouri 64106; or at the Office of the Federal Register, 800 North Capitol Street, NW, suite 700, Washington, DC.

FOR FURTHER INFORMATION CONTACT: William O. Herderich, Aerospace Engineer, FAA, Atlanta Aircraft Certification Office, 1895 Phoenix Boulevard, suite 450, Atlanta, Georgia 30349; telephone: (770) 703-6082; facsimile: (770) 703-6097; e-mail: william.o.herderich@faa.gov.

SUPPLEMENTARY INFORMATION:

Discussion

What Events Have Caused This AD?

The FAA has received several reports of cracked horizontal stabilizer attachment fittings on certain Barry Aviation, LLC Model PZL-Krosno KR-03A “Peregrine” (Puchatek) sailplanes. Polish manufacturer PZL-Krosno previously held the type certificate for these sailplanes.

Metallurgical analysis of one fitting indicated fatigue as the cause of the incidents. In 1993, PZL-Krosno issued a design note to specify the installation of horizontal stabilizer attachment fittings that had a flange of 3 millimeters (mm) thick instead of 1.5 mm thick.

All reports of cracked horizontal stabilizer attachment fittings incorporated horizontal stabilizer attachment fittings with a flange of 1.5 mm thick.

What Are the Consequences if the Condition Is Not Corrected?

Cracked horizontal stabilizer attachment fittings, if not prevented, could result in the horizontal stabilizer separating from the sailplane with consequent loss of control of the sailplane.

Is There Service Information That Applies to This Subject?

The following service information relates to this subject:

—Barry Aviation “Krosno KR-03A Glider” Service Bulletin No. 1-02, dated June 10, 2002: This document includes procedures for inspecting the stabilizer attachment fittings to ensure that the increased thickness flange fittings are installed and specifies replacement if necessary; and

—WSK “PZL-Krosno” Service Bulletin No. BE-29/KR-03A/93, dated November 16, 1993: This document includes procedures for replacing the stabilizer attachment fittings with fittings that have increased thickness flanges and incorporating a “NO LIFT” placard to the vertical stabilizer.

The FAA's Determination and an Explanation of the Provisions of This AD

What Has FAA Decided?

The FAA has reviewed all available information, including the service information referenced above; and determined that:

—The unsafe condition referenced in this document exists or could develop on other Barry Aviation, LLC Model PZL-Krosno KR-03A “Peregrine” (Puchatek) sailplanes of the same type design;

—The actions specified in the previously-referenced service information (as specified in this AD) should be accomplished on the affected sailplanes; and

—AD action should be taken in order to correct this unsafe condition.

What Does This AD Require?

This AD requires you to inspect to ensure that the correct horizontal stabilizer attachment fittings are installed, install the correct fittings if necessary, and incorporate a “NO LIFT” placard to the vertical stabilizer.

Will I Have the Opportunity To Comment Prior to the Issuance of the Rule?

Because the unsafe condition described in this document could result in the horizontal stabilizer separating from the sailplane with consequent loss of control of the sailplane, we find that notice and opportunity for public prior comment are impracticable. Therefore, good cause exists for making this amendment effective in less than 30 days.

Comments Invited

How Do I Comment on This AD?

Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of the AD action and determining whether we need to take additional rulemaking action.

Are There Any Specific Portions of the AD I Should Pay Attention to?

We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How Can I Be Sure FAA Receives My Comment?

If you want us to acknowledge the receipt of your written comments, you must include a self-addressed, stamped postcard. On the postcard, write “Comments to Docket No. 2002-CE-30-AD.” We will date stamp and mail the postcard back to you.

Regulatory Impact

Does This AD Impact Various Entities?

These regulations will not have a substantial direct effect on the States, on the relationship between the national Government and the States, or on the distribution of power and responsibilities among the various levels of government. Therefore, FAA has determined that this final rule does not have federalism implications under Executive Order 13132.

Does This AD Involve a Significant Rule or Regulatory Action?

We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2002-16-17 Barry Aviation, LLC: Amendment 39-12856; Docket No. 2002-CE-30-AD.

(a) What sailplanes are affected by this AD? This AD applies to Model PZL-Krosno KR-03A “Peregrine” (Puchatek) sailplanes, serial numbers 03-01 through 03-24 and 04-01 through 04-20, that are certificated in any category.

Note 1: PZL-Krosno previously held the type certificate for these sailplanes.

(b) Who must comply with this AD? Anyone who wishes to operate any of the sailplanes identified in paragraph (a) of this AD must comply with this AD.

(c) What problem does this AD address? The actions specified by this AD are intended to prevent cracking in the horizontal stabilizer attachment fittings, which could result in the horizontal stabilizer separating from the sailplane with consequent loss of control of the sailplane.

(d) What must I do to address this problem? To address this problem, you must accomplish the following actions:

Actions | Compliance | Procedures
(1) Inspect the horizontal stabilizer attachment fittings to ensure that the correct fittings are installed: (i) If part number (P/N) NS-03/08/93-01L/P attachment fittings (or FAA-approved equivalent part numbers) are installed, no further action is required by this paragraph. (ii) If the attachment fittings are P/Ns other than NS-03/08/93-01L/P (or FAA-approved equivalent part numbers), replace the fittings with the P/N NS-03/08/93-01L/P attachment fittings (or FAA-approved equivalent part numbers). | Inspect within 10 hours time-in-service (TIS) after August 30, 2002 (the effective date of this AD). Replace prior to further flight after the inspection | Inspect in accordance with Barry Aviation “KROSNO KR-03A Glider” Service Bulletin No. 1-02, dated June 10, 2002. Replace in accordance with WSK “PZL-KROSNO” Service Bulletin No. BE-29/KR-03A/93, dated November 16, 1993.
(2) Incorporate a “NO LIFT” placard to the vertical stabilizer | Within 10 hours TIS after August 30, 2002 (the effective date of this AD) | Use paint or a permanent placard and add the words “NO LIFT” to both sides of the vertical stabilizer near the top and leading edge. Use letters that are at least .5 inch and a color that contrasts with the color of the airplane, e.g., use red on a blue airplane.

(e) Can I comply with this AD in any other way? You may use an alternative method of compliance or adjust the compliance time if:

(1) Your alternative method of compliance provides an equivalent level of safety; and

(2) The Manager, Atlanta Aircraft Certification Office (ACO), approves your alternative. Submit your request through an FAA Principal Maintenance Inspector, who may add comments and then send it to the Manager, Atlanta ACO.

Note 2: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact William O. Herderich, Aerospace Engineer, FAA, Atlanta Aircraft Certification Office, 1895 Phoenix Boulevard, suite 450, Atlanta, Georgia 30349; telephone: (770) 703-6082; facsimile: (770) 703-6097; e-mail: william.o.herderich@faa.gov.

(g) Are any service bulletins incorporated into this AD by reference? Actions required by this AD must be done in accordance with WSK “PZL-KROSNO” Service Bulletin No. BE-29/KR-03A/93, dated November 16, 1993; and Barry Aviation “KROSNO KR-03A Glider” Service Bulletin No. 1-02, dated June 10, 2002. The Director of the Federal Register approved this incorporation by reference under 5 U.S.C. 552(a) and 1 CFR part 51. You may get copies from Barry Aviation, LLC, 11600 Aviation Boulevard, suite 16, West Palm Beach, Florida 33412. You may view this information at FAA, Central Region, Office of the Regional Counsel, 901 Locust, Room 506, Kansas City, Missouri, or at the Office of the Federal Register, 800 North Capitol Street, NW., suite 700, Washington, DC.

(h) When does this amendment become effective? This amendment becomes effective on August 30, 2002.

Issued in Kansas City, Missouri, on August 6, 2002.
Michael Gallagher,
Manager, Small Airplane Directorate, Aircraft Certification Service.

[FR Doc. 02-20400 Filed 8-15-02; 8:45 am]

BILLING CODE 4910-13-P